ENVIRONMENTAL PROTECTION AGENCY

40 CFR Part 300

[EPA-HQ-SFUND-1990-0011; FRL-8465-3]

National Oil and Hazardous Substances Pollution Contingency Plan; National Priorities List

AGENCY: Environmental Protection Agency.

ACTION: Notice of intent for partial deletion of a portion of the Seneca Army Depot Activity Superfund Site from the National Priorities List.

SUMMARY: The United States Environmental Protection Agency (EPA) announces its intent to delete from the National Priorities List (NPL) all media (surface soils, subsurface soils, structures, surface water, and ground water) within the following two specific parcels of real property located at the Seneca Army Depot Activity (SEDA) Superfund Site (Site), Romulus, New York: Real Estate Parcel 1, except for a portion of this parcel known as SEAD-24; and the entirety of Real Estate Parcel 2. EPA requests public comment on this action. The NPL constitutes Appendix B to the National Oil and Hazardous Substances Pollution Contingency Plan (NCP), 40 CFR Part 300, which EPA promulgated pursuant to Section 105 of the Comprehensive Environmental Response, Compensation, and Liability Act (CERCLA), as amended. EPA and the State of New York, through its Department of Environmental Conservation (the State), have determined that all appropriate CERCLA response actions related to Parcel 1 (except the SEAD-24 portion) and Parcel 2 have been implemented. This partial deletion pertains only to Parcel 1 (except the SEAD-24 portion) and Parcel 2, and does not include any other portions of the Site. The portion of Parcel 1 known as SEAD-24 is not proposed for deletion at this time. Figure one (in the deletion docket) shows a map of Real Estate Parcels 1 and 2, and delineates between those areas being proposed for deletion and those areas that will remain on the NPL.

The purpose of the proposed deletion of Parcel 1 (except the SEAD-24 portion) and Parcel 2 is to remove uncontaminated and potentially useful property from the NPL, thereby making the land more desirable for re-development.

EPA has compiled the documents, such as soil sample results and locations, maps, pollution reports, and other relevant deletion documentation which were used by EPA in its determination to propose deletion of these Parcels. These documents are located in the deletion docket at the locations indicated below.

DATES: EPA will accept comments concerning its proposal for partial deletion until October 11, 2007 and a local newspaper of record.

ADDRESSES: Submit your comments, identified by Docket No. EPA-HQ-SFUND-1990-0011, by one of the following methods:

• http://www.regulations.gov. Follow on-line instructions for submitting comments.

• E-mail: vazquez.julio@epa.gov.

• Fax: (212) 637-3256.

• Mail: USEPA—Region 2, Emergency and Remedial Response Division, 290 Broadway—New York, NY 10007.

• Hand delivery: USEPA—Region 2, Emergency and Remedial Response Division, Federal Facilities Section, 290 Broadway, 18th Floor, New York, NY 10007. Such deliveries are only accepted during the Docket's normal hours of operation, and special arrangements should be made for deliveries of boxed information.

Instructions: Direct your comments to Docket No. EPA-HQ-SFUND-1990-0011. EPA's policy is to include in the public docket all comments received, without change, and to make them available online at http://www.regulations.gov, including any personal information provided, unless the comment includes information claimed to be Confidential Business Information (CBI) or other information whose disclosure is restricted by statute. Do not submit information through http://www.regulations.gov or e-mail that you consider to be CBI or otherwise protected. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment because of technical difficulties and cannot contact you for clarification, EPA may not be able to consider your comment. Electronic files should avoid the use of special characters, any form of encryption, and they should be free of any defects or viruses.

Docket: All documents in the docket are listed in the http://www.regulations.gov index. Although listed in the index, some information is not publicly available, e.g., CBI or other information the disclosure of which is restricted by statute. Certain other material, such as copyrighted material, will be publicly available only in the hard copy. Publicly available docket materials are available either electronically in http://www.regulations.gov or in hard copy at:

Regional Repository, U.S. EPA Region 2 Records Center, 290 Broadway—18th Floor, New York, NY 10007-1866, Hours: 9 a.m. to 5 p.m.—Monday through Friday. (212) 637-4308.

Local Site Repository, Seneca Army Depot Activity, 5786 State Route 96, Building 123, Romulus, NY 14541, Hours: 9 a.m. to 3:30 p.m.—Monday through Thursday, (607) 869-1494.

FOR FURTHER INFORMATION CONTACT: Mr. Julio F. Vazquez, Remedial Project Manager, U.S. EPA Region 2, 290 Broadway, 18th Floor, New York, NY 10007-1866, (212) 637-4323.

SUPPLEMENTARY INFORMATION:

Table of Contents

I. Introduction

II. NPL Deletion Criteria

III. Deletion Procedures

IV. Basis for Intended Partial Site Deletion

I. Introduction

EPA announces its intention to delete from the NPL all media (surface soils, subsurface soils, structures, surface water, and ground water) related to a portion of Real Estate Parcel 1 and all of Real Estate Parcel 2 at the Seneca Army Depot Activity Superfund Site, located in Romulus, New York, and requests public comments on this action. The [Comment 1] NPL constitutes Appendix B of the NCP, 40 CFR Part 300, which EPA promulgated pursuant to Section 105 of CERCLA. This partial deletion is proposed in accordance with 40 CFR 300.425(e) and the Notice of Policy Change: Partial Deletion of Sites listed on the National Priorities List, 60 FR 55466 (Nov. 1, 1995). EPA and the State have determined that all appropriate CERCLA response actions related to a portion of Real Estate Parcel 1 and all of Real Estate Parcel 2 have been implemented. This partial deletion pertains only to the designated areas in Parcels 1 and 2 and does not include other portions of the Site. In addition, there is one area located within Parcel 1, known as SEAD-24, which is not proposed for deletion at this time. Boundaries of the Parcels proposed for deletion, as well as the boundaries of SEAD-24, can be reviewed at the Site's information repositories.

The following Parcels, either wholly or in part, are proposed for deletion:

Parcels | Acres deleted
Parcel 1—Empire Biofuels Redevelopment | 368.6
Parcel 2—Seneca County Public Safety Building and Jail | 25.2

Parcel 1, also known as the Empire Biofuels Redevelopment area, is located midway on the western edge of SEDA. Most of this Parcel did not require remedial investigations under CERCLA. The two areas within Parcel 1 that were investigated under CERCLA are known as SEAD-58 and SEAD-24 [Comment 2]. SEAD-58 includes two debris disposal areas that have been found to require no active remediation under CERCLA. SEAD-24 is a two-acre area that is not included in this proposed deletion and will remain on the NPL. SEAD-24 underwent a soil removal action in 2004 and is awaiting a determination by EPA that all appropriate response actions have been implemented.

Parcel 2, also known as the Seneca County Public Safety Building and Jail area, is located along the eastern perimeter of the SEAD Site in the southeast quadrant. The parcel encompasses two sub-parcel areas designated as SEAD-50 and SEAD-54, both of which have been remediated. Subsequent sampling of these two areas confirmed that all appropriate CERCLA response actions were performed. However, SEAD-50 and -54 are subject to Institutional Controls (ICs) because they are part of the encompassing Planned Industrial Development (PID) area [Comment 3].

SEDA, which encompasses approximately 10,634 acres, includes property owned by the U. S. Department of Army, the Seneca County Industrial Development Agency (SCIDA), the local redevelopment authority, New York State Department of Corrections, U.S. Department of Homeland Security, Seneca County, and private entities. As part of the Base Realignment and Closure Act (BRAC), the Federal government has entered into agreements with SCIDA to transfer selected properties for public and private reuse. Parcels 1 and 2 are currently owned by SCIDA.

Seneca County, Empire Biofuels, Inc., and Flaum Management Company, Inc. requested this partial deletion to facilitate reuse of these Parcels. Summary reports submitted to EPA and the State have shown that all appropriate response actions with regard to the soil, soil vapor, structures, surface water, and ground water media for Parcels 1 and 2 (with the exception of SEAD-24 area in Parcel 1) have been performed or that the conditions pose no significant threat to public health or the environment and therefore remedial measures are not appropriate. This notice is only for the Parcels specified herein and does not include any other real properties within the Site. Ongoing remedial investigations, remedial designs, and other soil, structures, surface water, and ground water cleanup activities will continue at the portions of the Site not included in this notice of intent to delete. All of those other portions of the Site remain on the NPL, including SEAD-24 within Parcel 1.

The NPL is a list maintained by EPA of sites that EPA has determined present a significant risk to human health or welfare, or to the environment. Pursuant to 40 CFR 300.425(e) of the NCP, any site or portion of a site deleted from the NPL remains eligible for Superfund-financed remedial actions if conditions at a site warrant such action.

EPA will accept public comments concerning this notice of intention to partially delete portions of the Site for a period of thirty (30) days after publication of this notice in the Federal Register and a local newspaper of record.

II. NPL Deletion Criteria

The NCP establishes the criteria that EPA uses to delete sites from the NPL. In accordance with 40 CFR 300.425 (e), sites may be deleted from the NPL where all appropriate response actions have been performed or no significant threat to public health and the environment exists. In making this determination, EPA, in consultation with the State, will consider whether any of the following criteria have been met:

• Section 300.425(e)(1)(i). Responsible parties or other persons have implemented all appropriate response actions required; or

• Section 300.425(e)(1)(ii). All appropriate Fund-financed responses under CERCLA have been implemented and no further cleanup by responsible parties is appropriate; or

• Section 300.425(e)(1)(iii). The remedial investigation has shown that the release of hazardous substances poses no significant threat to public health or the environment and, therefore, taking of remedial measures is not appropriate.

Parcel 1, with the exception of SEAD-24, is proposed for deletion from the NPL because remedial investigations have shown that no significant threat to public health or the environment exists and therefore no remedial measures are appropriate.

Parcel 2 is proposed for deletion from the NPL as all appropriate CERCLA response actions have been implemented at this area, and area-related studies or remedial investigations have shown that no further cleanup is appropriate or necessary to protect public health or the environment.

This partial deletion does not affect or impede any CERCLA response activities at areas of the Site that are not deleted and that remain on the NPL. Deletion of a portion of a site from the NPL does not itself create, alter, or revoke any person's rights or obligations. The NPL is designed primarily for informational purposes and to assist EPA management.

III. Deletion Procedures

The following procedures were used for the intended deletion of Parcels 1 (excluding the SEAD-24 portion) and 2 from the Site:

(1) The Site was listed on the NPL on August 30, 1990.

(2) Historic records, field investigations, and other information at the Site were used to establish Areas of Concern which were later designated as Solid Waste Management Units (SWMUs), which are referred to at the Site as “SEAD-#.” Over 100 SWMUs have been identified at the Site.

(3) It has been determined that many areas of the Site did not experience any release of hazardous substances, did not require further investigations, and did not require designation as a SWMU. Some of the areas within Parcels 1 and 2 have not been identified as areas of concern and do not have a SEAD number designation.

(4) Parcels 1 and 2 include four SWMUs: SEAD-24, -50, -54, and -58. SEAD-24, which lies within Parcel 1, is not proposed for deletion at this time. EPA has determined, however, that all appropriate response actions at SEAD-50, -54, and -58 have been implemented. These determinations were documented in Records of Decisions (RODs [Comment 4]).

(5) To facilitate transfer of property to the public and development of certain Parcels of the former SEDA facility, Empire Biofuels, Seneca County, and Flaum Management Company submitted a Draft Notice of Intent to Partial Deletion (NOIPD) package for Parcels 1 and 2, excluding the SEAD-24 portion of Parcel 1.

(6) Seneca County Industrial Development Agency has requested the deletion of the identified portions of Parcels 1 and 2.

(7) EPA recommends this partial deletion and has prepared the relevant documents.

(8) The State concurred with the deletion of these Parcels in a letter dated April 10, 2007.

(9) Concurrent with this Notice of Intent for Partial Deletion, a notice has been published in a local newspaper of record and has been distributed to appropriate Federal, State, and local officials and to other interested parties. These notices announce a thirty (30) day public comment period on the partial deletion package, which commences on the date of publication of this notice in the Federal Register and a local newspaper of record, whichever period is later.

(10) EPA has made all relevant documents available at the information repositories listed above.

Upon completion of the thirty (30) day public comment period, EPA will evaluate any comments received before the issuing a final decision on the partial deletion. If appropriate, EPA will prepare a Responsiveness Summary to address comments received during the public comment period responding to concerns presented in the comments. The Responsiveness Summary will be made available to the public at the information repositories listed above. If, after review of all public comments, EPA determines that this partial deletion from the NPL is appropriate, EPA will publish a final notice of deletion in the Federal Register. Deletion of the Parcels does not actually occur until the final Notice of Partial Deletion is published in the Federal Register.

IV. Basis for Intended Partial Site Deletion

Background

SEDA encompasses approximately 10,634 acres, including all real property within the “fence-line” that surrounds SEDA. The military mission of the Site has varied over the years. In 1942, it was activated as the Seneca Ordnance Depot. The mission of the Depot included the storage, maintenance, and shipment of material for the U.S. Army, the demilitarization of conventional ammunition, and the training of Reserve and National Guard units. The Depot was designated for closure in 1995 under the Base Realignment and Closure Act, resulting in deactivation of all military activities. The Depot's military mission officially ended in 2000.

The Site was investigated by means of Areas of Concern which were later designated as SWMUs, which are referred to at the Site as SEAD-#s. The SEADs were identified based upon historic information and field investigations. Over 100 SWMUs have been identified at the Site. One or more SWMUs are located within each of the Parcels proposed for deletion. To be deleted from the NPL, EPA must determine that no response action or no further response action is appropriate.

Over the years, various hazardous substances were used at the Site, and hazardous wastes were generated, stored, or disposed there. Numerous studies and investigations have been performed to locate, assess, and quantify the past storage, disposal, and spill areas of hazardous substance at the Site. These investigations include: records searches; interviews with base personnel; field inspections; compilation of waste inventory; evaluation of disposal practices; assessments to determine the nature and extent of site contamination; soil and groundwater analysis; a base-wide health assessment; base-specific hydrology investigations; and various Site-specific investigations. Based upon such studies and information, the Site was included on the NPL on August 30, 1990. On January 21, 1993, the U.S. Army entered into a Site-specific Federal Facility Agreement with EPA and NYSDEC under Section 120 of CERCLA. By the terms of that Agreement, the Army was required to submit various reports concerning the Site to the State and EPA for review and comment. These reports addressed remedial activities required under CERCLA and included: The identification of SWMUs; scoping workplans, site inspections (SI) and remedial investigation (RI); sampling and analysis plans, quality assurance plans; baseline and mini-risk assessments; a community relations plan; and proposed plans and records of decisions.

Environmental studies pertinent to this NOIPD relied on the following documents which were completed to facilitate the characterization and evaluation process required for deletion of selected parcels. These investigations/reports included:

• SWMU Classification Report, Final, September 1994;

• Expanded Site Inspection Eight Moderately Low Priority Areas of Concern—SEADs 5, 9, 12 (A/B), (43, 56, 69), 44 (A/B), 50, 58 and 59, Draft—Final, December 1995;

• Environmental Baseline Survey Report Final, March 1997;

• Action Memorandum and Decision Document for Time-Critical Removal Actions Four Metals Sites (SEADs 24, 50/54 & 67), Final, August 2002;

• Finding of Suitability to Transfer (FOST) for the PID and Warehouse Area, July 2003;

• FOST for the Conservation/Recreation Area, July 2003;

• Deed for SEAD-50/54, April 2004;

• Final ROD for the PID and Warehouse Area at Seneca Army Depot Activity, September 2004;

• Amendment 1 to the FOST for the PID and Warehouse Area, December 2003;

• Final Completion Removal Report, Time Critical Removal Action Metal Sites, SEAD-50/54, December 2003;

• Final ROD for no Further Action SWMUs (SEAD-50/54) at Seneca Army Depot Activity, September 2005;

• Final ROD for No Action SWMU (SEAD-58) and No Further Action SWMU (SEAD-63) at Seneca Army Depot Activity, September 2006;

• Request package for Partial Deletion from SCIDA, November 2006;

• State concurrence letter, April 2007. [Comment 5]

Based on the findings of the environmental studies documented in the reports above, the parcels proposed for deletion meet the deletion criteria. The history and current status of each SWMU within the Parcels proposed for deletion are summarized below.

Parcel 1—Empire Biofuels Redevelopment [Comment 6 ]

This Parcel is comprised of approximately 368.6 acres and contains a portion (SEAD-58) that has been addressed under CERCLA [Comment 7]. A second area (SEAD-24), situated wholly within the boundaries of Parcel 1, is not proposed for deletion at this time. SEAD-24 has undergone a soil removal action and is awaiting a final determination as to whether all appropriate response action has been implemented. A summary of SEAD-58 is provided as follows:

SEAD-58 Debris Area Near Booster Station

Characterized as a debris area, SEAD-58 is located in the western-central portion of SEDA and is the northern-most SWMU in the Empire Biofuels Redevelopment parcel. SEAD-58 encompasses two distinct debris disposal areas that vary in size from 200-300 feet in diameter. These areas were used for the disposal of miscellaneous waste purported to include the pesticide DDT.

In 1994, an RI and supplemental Expanded Site Inspection (ESI) were initiated to characterize the full extent of environmental impacts specific to SEAD-58 and determine potential threats to human health and the environment. The investigations entailed the completion of a geophysical survey, a drilling program, test pit excavations, and an environmental sampling program designed to collect surface soil, surface water, sediment, subsurface soil, and groundwater media. Based upon the area specific analytical results evaluated for the May 2002 Mini-Risk Assessment, the Army proposed “No Action” as a remedy.

Subsequent to review by EPA and the State, the Final May 2002 Decision Document was modified to incorporate technical comments deleting the need for land use restrictions for the two debris disposal areas. In September 2006, EPA, with the concurrence of the State, approved the May 2002 document in which it was determined that SEAD-58, with no land use restrictions, posed no significant risk to the human health or the environment. Approval of the “No Action” decision forms the basis to delete SEAD-58 from the NPL, and it affects all media (surface soils, subsurface soils, structures, surface water, and ground water).

SEAD-24 Abandoned Powder Burning Pit (Not To Be Delisted)

SEAD-24, the Abandoned Powder Burning Pit, is located in the west-central portion of SEDA. The burning pit comprises an area measuring approximately 325 feet by 150 feet that is surrounded on the east, south, and west by a berm approximately 4 feet high. The area is bounded to the north by West Kendaia Road and by open grassland and brush.

The Abandoned Powder Burning Pit was active during the 1940s and 1950s. Although operating practices at this area are undocumented, it is presumed that black powder, M10 and M16 solid propellants, and explosive trash were disposed here through controlled burning. It was further presumed that petroleum hydrocarbon fuel was used to ignite the burn.

An ESI was performed at SEAD-24 between 1993 and 1994. The ESI combined geophysical surveys and intrusive methods to characterize the nature and extent of the contaminants present there. During intrusive operations, environmental samples of soil and groundwater were collected.

Of the fifty-seven different analytes for soil, three semi-volatile organic compounds and fourteen metals were present at concentrations that exceeded cleanup objectives. The highest concentrations were primarily limited to surface soil samples.

The ground water sampling results suggested no impact to the ground water near the Abandoned Powder Burning Pit.

A time-critical removal action was conducted between 2002 and 2006 to reduce metal and carcinogenic PAHs contamination in soils. Regulatory review of this action is in progress.

Parcel 2—Seneca County Jail [Comment 8]

This 25.2 acre parcel is located in the southeast quadrant of SEDA, along its eastern perimeter. The parcel encompasses two SMWUs designated SEAD-50 and SEAD-54, of which 22 acres have been remediated under CERCLA. Investigations were completed to identify potential environmental impacts at each SWMU and were supplemented with risk evaluations that ultimately determined no further action was required for these SWMUs. Based on investigations and remedial activities performed with EPA and State approval and oversight, the SWMUs described below are proposed for deletion from the NPL.

SEAD-50 and SEAD-54 Tank Farm Area

Characterized as a former tank farm area, approximately 160 above-ground storage tanks were once located within the triangular shaped land tract known as SEAD-50/54. The preliminary investigation of the area, which was performed in 1993, was reported in the SWMU Classification Report, and as a result it was identified as a SWMU. The area which was subsequently identified as SEAD-50 was used for dry material storage that included stockpiles of strategic ores such as antimony, rutile, and silicon carbide. One storage tank (Tank #88) contained asbestos ore material and was assigned a separate SEAD designation (SEAD-54). All tanks were removed prior to implementing a phased program of investigation, evaluation, and remediation.

In 1994, an RI and supplemental ESI were performed to characterize the full extent of environmental impacts specific to the SEAD-50/54 area and determine potential threats to human health and the environment. The investigations entailed the completion of a geophysical survey, a drilling program, test pit excavations, and an environmental sampling program designed to collect surface soil, subsurface soil, surface water, sediment, and groundwater media. Analytical results identified elevated concentrations of selected metals (arsenic, lead, manganese, potassium, and zinc) in tank farm soil materials that were determined to represent a potential environmental threat. A time-critical removal action was performed from late 2002 to early 2003 to excavate, remove, and dispose of impacted soil material from SEAD-50/54. The “Final Completion Report” for SEAD-50/54, which documented findings of the removal action and confirmatory sampling results, presented data supporting a determination that SEAD-50/54 no longer poses a threat to human health and the environment.

EPA, with the concurrence of the State, approved a remedy in September 2005 which required “No Further Action” for SEADs-50/54. The remedy required that the PID and Warehouse Areas, including SEADs-50/54, be subject to controls restricting future residential development and groundwater use. Accordingly, the recorded deed for this Parcel contains the land use restrictions on land and groundwater use. [Comment 9] These land use controls are considered CERCLA actions and are included among the documents which are the basis for this action.

Major Community Involvement Activities

The Army published its Community Relations Plan in October 1992 and created a Restoration Advisory Board to facilitate participation of and input from the public throughout the CERCLA cleanup process. Each decision document at the Site has been made available for public comment, discussed at public meetings, and placed in the information repository before the decision document was finalized.

List of Subjects in 40 CFR Part 300

Environmental protection, Chemicals, Hazardous substances, Intergovernmental relations, Reporting and recordkeeping requirements, Superfund.

Dated: August 17, 2007.
Alan J. Steinberg,
Regional Administrator, Region 2.

[FR Doc. E7-17750 Filed 9-10-07; 8:45 am]

BILLING CODE 6560-50-P